DEPARTMENT OF EDUCATION

Office of Vocational and Adult Education, Department of Education; Notice of Intent to Award Grantback Funds to the Commonwealth of Massachusetts Department of Education

SUMMARY: Under section 459 of the General Education Provisions Act (GEPA), 20 U.S.C. 1234h, the Secretary of Education (Secretary) intends to repay to the Commonwealth of Massachusetts Department of Education (MADOE), under a grantback agreement, an amount equal to 75 percent of the principal amount of funds recovered by the U.S. Department of Education (Department) in resolution of findings 42, 51, 54, 57, and 60 of the State's Single Audit Reports for the years ended June 30, 1997 (ACN: 01-97-88064); June 30, 1998 (ACN: 01-98-08038); and June 30, 1999 (ACN: 01-99-08038), respectively. The Department's recovery of funds followed two settlement agreements executed by the parties under which the MADOE refunded $2,432,628 to the Department in full resolution of the findings noted above. The MADOE has submitted to the Department a grantback application in accordance with section 459(a) of GEPA. This notice describes the MADOE's plan for use of the repaid funds and the terms and conditions under which the Secretary intends to make those funds available. This notice also invites comments on the proposed grantback.

DATES: We must receive your comments on or before January 20, 2004.

ADDRESSES: All written comments should be addressed to Maurice James, Chief, State Administration Branch, Office of Vocational and Adult Education, U.S. Department of Education, 400 Maryland Avenue, SW., Mary E. Switzer Building, Room 4319, MS 7323, Washington, DC 20202.

FOR FURTHER INFORMATION CONTACT: Maurice James. Telephone: (202) 205-8781 or via Internet at: maurice.james@ed.gov.

If you use a telecommunications device for the deaf (TDD), you may call the Federal Information Relay Service (FIRS) at 1-800-877-8339.

SUPPLEMENTARY INFORMATION:

A. Background

Under two settlement agreements between the Department and the MADOE, the Department recovered $3,841,433 from the MADOE in full resolution of claims arising under the Carl D. Perkins Vocational and Technical Education Act of 1998 (Perkins III), 20 U.S.C. 2301 et seq., the Elementary and Secondary Education Act of 1965, as amended, 20 U.S.C. 6301 et seq., and the Individuals with Disabilities Education Act, as amended, 20 U.S.C. 1401, 1411-1419. Of the total amount recovered under the two agreements, $2,432,628 resolved Perkins III-related findings cited in Massachusetts' Single Audit Reports covering State fiscal years (FYs) 1997 (ACN: 01-97-88064), 1998 (ACN: 01-98-98009) and 1999 (ACN: 01-99-08038). In its grantback application, the MADOE requests repayment of 75 percent of the $2,432,628 recovered by the Department for Perkins III-related claims.

The Department's claim of $2,432,628 for Perkins III-related findings was contained in a May 25, 2001 program determination letter (PDL) and accompanying Matrix of Closed Findings (Matrix) issued by the Deputy Assistant Secretary for Vocational and Adult Education and other Department officials. The Matrix noted that the MADOE violated the Federal requirements governing matching and time distribution. Specifically, the MADOE failed to match, from non-Federal sources and on a dollar-for-dollar basis, Federal funds reserved for State administration. In addition, the MADOE failed to keep proper time distribution records for salaries and fringe benefits paid with Perkins III funds. These findings were resolved through the Department's Cooperative Audit Resolution and Oversight Initiative (CAROI).

The CAROI process culminated in the two settlement agreements under which the MADOE refunded to the Department a principal amount of $2,432,628 for Perkins III-related claims. The settlement agreements were executed in May 2001. The Department received full payment for these determinations in October 2001.

B. Authority for Awarding a Grantback

Section 459(a) of GEPA, 20 U.S.C. 1234h(a), provides that whenever the Secretary has recovered funds following a final audit determination with respect to any applicable program, the Secretary may consider those funds to be additional funds available for the program and may arrange to repay to the State or local educational agency affected by that determination an amount not to exceed 75 percent of the recovered funds. The Secretary may enter into this grantback arrangement if the Secretary determines that—

(1) The practices or procedures of the recipient that resulted in the violation of law have been corrected and the recipient is in all other respects in compliance with the requirements of that program;

(2) The recipient has submitted to the Secretary a plan for the use of those funds pursuant to the requirements of that program and, to the extent possible, for the benefit of the population that was affected by the failure to comply or by the misuse of funds that resulted in the recovery; and

(3) The use of the funds in accordance with that plan would serve to achieve the purposes of the program under which the funds were originally paid.

C. Plan for Use of Funds Awarded Under a Grantback Arrangement

Pursuant to section 459(a)(2) of GEPA, the MADOE has applied for a grantback of $1,824,471, or 75 percent of the $2,432,628 refunded to the Department for Perkins III-related claims under the two settlement agreements, and has submitted a plan for use of the proposed grantback funds, consistent with Perkins III. The MADOE has implemented a system to address the requirement in Perkins III to match administration costs on a dollar-for-dollar basis. The MADOE will not count towards the match any State administrative expenditures for staff that are not 100 percent related to vocational education. The positions funded from Perkins III administrative funds will be supported by monthly time sheets, and their costs will be counted toward the match.

A May 2002 on-site monitoring visit by Department staff confirmed that the MADOE has implemented policies and procedures for the process and reconciliation of salary charges to Federal programs, including the Perkins III account. Adjustments will be made to the Federal accounts in a timely manner, and any excess charges will be the responsibility of the State. The salary adjustment plan that was implemented specified a monthly reporting requirement. There are no plans to alter these procedures. There were no questioned costs in this area based on the FY 2002 audit conducted by the independent public accounting firm of Deloitte and Touche.

D. Consultation in the Development of the Grantback Application

In developing the grantback application, the MADOE states that it solicited input from:

• Secondary and postsecondary educators in the State;

• Workforce training and development organizations;

• Massachusetts Community College Executive Office;

• Massachusetts Association of Vocational Administrators;

• Massachusetts Tech Prep Roundtable;

• Massachusetts Postsecondary Perkins Committee.

According to the MADOE, each constituency group reviewed and supported the identified priorities. The priorities include:

• Improving the transition of career and technical education (CTE) students from high school to college CTE programs;

• Supporting the development and implementation of Statewide secondary to postsecondary “pathways” in information technology, health and pre-engineering career fields;

• Increasing the participation and completion of CTE programs that lead to nontraditional training and employment;

• Increasing the pool of highly qualified vocational technical educators through a Web-based licensing and job bank system and an improved pre-service program for new vocational technical educators; and

• Providing support to Perkins-eligible secondary and postsecondary schools and colleges to add new CTE programs for occupations in information technology, health and pre-engineering, or to assist these schools and colleges in attaining national program approval or business and industry standards in these three areas.

The MADOE's grantback application indicates that the Executive Director for the Massachusetts Community College System is especially supportive of the grantback priority that focuses on the improvement of postsecondary CTE student retention and graduation rates. Approximately 50 percent of the proposed grantback activities will support a strengthened partnership between secondary and postsecondary education institutions.

E. Description of the State's Current Activities Under the Applicable Program

The MADOE's CTE unit is directly responsible for administering programs authorized under Perkins III. The unit is also responsible for approving programs under Charter 74 (the State law for CTE) and for providing technical assistance to school districts, community colleges, and other agencies on issues related to the transition from school to careers.

According to the MADOE, over the past three years, the CTE unit has focused its work on addressing the four core indicators in the State's Perkins accountability system. These efforts address:

• Improving academic and technical skill gains for secondary and postsecondary CTE students;

• Increasing the number of CTE students graduating from high school and receiving a two-year associate degree or a one- or two-year certificate;

• Improving the placement of students in technical careers related to their fields of study; and

• Increasing the number of students enrolled in and completing nontraditional programs.

To reach these goals the CTE unit has focused on:

• Supporting whole school restructuring through the State's membership in the High Schools that Work initiative. The State network is comprised of 30 high schools, including many of the most challenged schools in the Commonwealth;

• Offering State-sponsored professional development highlighting “best practices” that lead to improved student achievement. Perkins III local recipients provide high-quality professional development through the use of a mandated “15 percent or more set-aside” of State leadership funds. The State has designed its professional development programs in a manner intended to increase teachers' knowledge of academic and technical subject matter and to support school-wide academic initiatives in such areas as reading, writing and mathematics;

• Providing additional financial resources to school districts' CTE programs through the MADOE's “Academic Support Grants” to increase the number of CTE students passing the Massachusetts Comprehensive Assessment System exam (a requirement for receiving a high school diploma);

• Encouraging and supporting schools and colleges in applying for and receiving national program approval and helping students to earn industry or State-recognized credentials;

• Supporting the development of a career and technical assessment system that would lead to issuing a certificate of occupational proficiency;

• Providing strong tech-prep programs that lead to increased numbers of CTE students successfully transitioning to and completing two-year and four-year postsecondary programs of study; and

• Providing technical assistance and professional development specifically targeted to increasing the number of CTE students enrolling in and completing nontraditional programs.

In its grantback application, the MADOE states that for the past two years, the CTE unit's administration and staff have analyzed the data collected from their work addressing the four core indicators and identified particular areas of need for the focus of the grantback application. In addition, the Perkins program compliance audit, conducted in May 2002 by a team from the Department's Office of Vocational and Adult Education, and subsequent report support the need for the initiatives outlined in the grantback application.

F. Proposed Initiatives

The following is a description of the seven proposed initiatives, as outlined in the MADOE's grantback application:

(1) Successful transition of CTE students from high school to college—competitive grant program.

The MADOE proposes to offer a competitive request for proposal (RFP) to Perkins-eligible secondary and postsecondary institutions to develop collaborative programs that focus on intensive college transition and preparation programs for CTE high school students. This initiative would focus on the academic and technical preparedness needed for a student's success at the postsecondary level. Programs would include academic school year preparedness and transition activities with an intensive summer program for entering college students.

(2) Development and dissemination of Statewide secondary-to-postsecondary pathways in information technology, health and pre-engineering/engineering career fields.

The MADOE's CTE unit proposes to develop specific high school-to-college (four-year high school to one-year, two-year and four-year college) program pathways in health, information technology and engineering. Competencies, course and program sequencing, syllabi, curricula, articulation processes, workplace opportunities and assessment models will be identified in all three career areas. All of the resources produced as part of this initiative will be posted at the CTE unit's Web site for employers, schools and colleges. The CTE unit also will provide professional development opportunities to support Statewide implementation of the pathway models. This initiative will be aligned with and be part of the implementation of the new system to issue Certificates of Occupational Proficiency and the new Massachusetts Vocational-Technical Career 74 Regulations.

(3) Workplace models in high-wage, high-demand career and technical education pathways—competitive grant program.

The MADOE proposes to issue a competitive RFP to Perkins-eligible school districts and colleges to develop and provide workplace models in health, information technology and engineering program pathways. Program models must include intensive workplace projects, employer mentoring, academic and technical skill competency attainment related to course content, collaborative project development that includes industry employees and high school and college staff, and assessment of both product outcomes for industry and academic and technical skill gain by students.

(4) Increased participation in and completion of technical education programs that lead to nontraditional training and employment.

The MADOE is proposing a two-pronged study to alter current career and technical education enrollment patterns. A contractor will be selected through a competitive “request for response” (RFR) process to study the current nontraditional enrollment patterns in secondary career and technical education programs. The study will examine the underlying factors for selecting a career major and take into consideration any recent research done in the field. The study will also include actions that the MADOE and school districts can take to help alter current secondary career and technical education enrollment patterns.

(5) Web-based Perkins accountability system.

The MADOE proposes to develop a Web-based application for licensing vocational technical educators. This will be an enhancement to the State's current “Educator Licensure and Recruitment” system, known as ELAR. The system will allow applicants to request waivers, search jobs and post resumes, and make fee payments online. It will be linked to the State's educator preparation education programs and its vocational educator testing center. The new system will include an on-line faculty register that will be used by MADOE staff to ensure that all current vocational technical education teachers employed by school districts and collaboratives have the appropriate credentials.

(6) High-wage, high-demand career and technical education—competitive grant program.

The MADOE will issue a competitive RFP for Perkins-eligible secondary and postsecondary institutions with career and technical programs. Grantees will use funds either to begin a new CTE program in high-wage, high-demand fields within the three cluster areas or to update existing programs in those clusters to align with national program standards or industry-recognized certifications. The MADOE believes that there is an inadequate number of technically skilled workers to fill the jobs being created in technology-driven services. As a result of rapid growth in this sector, demand for professional and technical workers, including in fields requiring less than a four-year degree for entry-level positions, is expected to expand the fastest and generate the most new jobs in the State. It is also expected that engineering and architectural services will grow by 13 percent and generate 4,300 new jobs. Of the 25 fastest growing occupations in the State, more than half are related to information technology and health care.

(7) Vocational technical education teachers' pre-service training.

The Massachusetts Board of Education recently approved a new set of vocational technical education regulations that became effective on September 1, 2003. The teacher credentialing portion of the regulations contains a new provision that requires vocational technical education teacher candidates to earn 21 college degree credits in professional education courses. These courses include a three credit college degree seminar specifically designed for new teachers. New teachers will be required to take these courses in their first year of teaching. As part of the State's effort to prepare first-year vocational technical education teachers better, a “new teachers tool kit” will be developed in consultation with the State's three vocational technical educator preparation programs. The tool kit will be based upon the professional standards for vocational technical education teachers contained in the regulations. Topics covered in the tool kit may include, but are not limited to, student grading, assigning and reviewing homework, classroom management, lesson planning, developing a course syllabus and project-based learning, and pertinent State and Federal laws and regulations.

G. The Secretary's Determination

The Secretary has carefully reviewed the plan submitted by the MADOE and other relevant documentation. Based upon that review, the Secretary has determined that the conditions under section 459(a) of GEPA have been met.

This determination is based upon the best information available to the Secretary at the present time. If this information is not accurate or complete, the Secretary is not precluded from taking appropriate administrative action. In finding that the conditions of section 459(a) of GEPA have been met, the Secretary makes no determination concerning any pending audit recommendations or other investigations.

H. Notice of the Secretary's Intent To Enter Into a Grantback Arrangement

Section 459(d) of GEPA requires that, at least 30 days before entering into an agreement to award funds under a grantback arrangement, the Secretary publish in the Federal Register a notice of intent to do so, and the terms and conditions under which the payment will be made.

In accordance with section 459(d) of GEPA, notice is hereby given that the Secretary intends to make funds available to the MADOE under a grantback agreement. The grantback award would be in the amount of $1,824,471, which is 75 percent—the maximum percentage authorized by GEPA—of the principal recovered by the Department as a result of the final audit determinations and resolution of the Perkins III-related claims.

I. Terms and Conditions Under Which Payments Under a Grantback Arrangement Would Be Made

The MADOE has agreed to comply with the following terms and conditions under which payment under a grantback arrangement would be made:

(1) The MADOE will expend the funds awarded under the grantback in accordance with —

(a) All applicable statutory and regulatory requirements, and

(b) The plan that was submitted and any amendments to the plan that are approved in advance by the Secretary; and

(2) All funds received under this grantback arrangement must be obligated by September 30, 2004, in accordance with section 459(c) of GEPA and the MADOE's plan;

(3) The MADOE will, no later than 90 calendar days after the expiration date of the approved grantback award, submit a report to the Secretary that—

(a) Indicates that the funds awarded under the grantback have been expended in accordance with the proposed plan, and

(b) Describes the results and effectiveness of the projects for which the funds were spent; and

(4) Separate accounting records must be maintained documenting the expenditures of funds awarded under the grantback arrangement.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo/nara/index.html.

(Catalog of Federal Domestic Assistance Number 84.048, Basic State Grants for Vocational Education)

Dated: December 11, 2003.
Richard T. LaPointe,
Deputy Assistant Secretary for Vocational and Adult Education.

[FR Doc. 03-31010 Filed 12-17-03; 8:45 am]

BILLING CODE 4000-01-P